COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: March 10, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

7510-01-664-8784—DAYMAX System, 2023 Calendar Pad, Type I

7510-01-664-8815—DAYMAX System, 2023, Calendar Pad, Type II

Designated Source of Supply: Anthony Wayne Rehabilitation Ctr for Handicapped and Blind, Inc., Fort Wayne, IN

Contracting Activity: GSA/FAS ADMIN SVCS ACQUISITION BR(2, NEW YORK, NY

NSN(s)—Product Name(s):

7520-00-8LP-6520—Pen, Ballpoint, “Navy”, White

Designated Source of Supply: The Arkansas Lighthouse for the Blind, Little Rock, AR

Contracting Activity: U S FLEET FORCES COMMAND, NORFOLK, VA

Service(s)

Service Type: Tool and MRO Sourcing and Fulfillment Services

Mandatory for: USPFO Connecticut, Army National Guard, National Guard Bureau, 360 Broad Street, Hartford, CT

Designated Source of Supply: Industries for the Blind and Visually Impaired, Inc., West Allis, WI

Contracting Activity: DEPT OF THE ARMY, W7MZ USPFO ACTIVITY CT ARNG

Service Type: Furniture Design, Configuration and Installation

Mandatory for: U.S. Department of the Interior, OS Office, Herndon Atrium Building, 381 Elden Street, Herndon, VA

Designated Source of Supply: Industries for the Blind and Visually Impaired, Inc., West Allis, WI

Contracting Activity: DEPARTMENTAL OFFICES, IBC ACQ SVCS DIRECTORATE (00004)

Service Type: Medical Transcription

Mandatory for: Department of the Navy, Naval Medical Center San Diego (NMCSD), 34800 Bob Wilson Drive, San Diego, CA

Designated Source of Supply: Lighthouse for the Blind of Houston, Houston, TX

Contracting Activity: DEPT OF THE NAVY, NAVAL MEDICAL CENTER SAN DIEGO CA

Service Type: Mailroom Operation

Mandatory for: Federal Deposit Insurance Corporation: 1910 Pacific Avenue, Dallas, TX

Designated Source of Supply: Dallas Lighthouse for the Blind, Inc., Dallas, TX

Contracting Activity: HEALTH AND HUMAN SERVICES, DEPARTMENT OF, DEPT OF HHS

Service Type: Mailroom Operation

Mandatory for: Department of Health and Human Services: Program Support Center Headquarters, Dallas, TX

Designated Source of Supply: Dallas Lighthouse for the Blind, Inc., Dallas, TX

Contracting Activity: HEALTH AND HUMAN SERVICES, DEPARTMENT OF, DEPT OF HHS

Service Type: Grounds Maintenance/Vegetation Control

Mandatory for: US Navy, Housing and Station Areas, Naval Air Station Fallon, 4755 Pasture Road, Fallon, NV

Designated Source of Supply: PRIDE Industries, Roseville, CA

Contracting Activity: DEPT OF THE NAVY, NAVFAC SOUTHWEST

Service Type: Janitorial/Custodial

Mandatory for: US Navy, Naval and Marine Corps Reserve Center,7117 West Plank Road, Peoria, IL

Designated Source of Supply: Community Workshop and Training Center, Inc., Peoria, IL

Contracting Activity: DEPT OF THE NAVY, NAVAL FAC ENGINEERING CMD MID LANT

Michael R. Jurkowski,
Acting Director, Business Operations.

[FR Doc. 2024-02692 Filed 2-8-24; 8:45 am]

BILLING CODE 6353-01-P